DEPARTMENT OF ENERGY

Federal Energy Regulatory Commission

[Docket No. PR05-19-001]

Unocal Keystone Gas Storage, LLC; Notice of Compliance Filing

February 6, 2006.

Take notice that on January 24, 2005, Unocal Keystone Gas Storage, LLC (Keystone) filed a compliance filing submitting operating statement pursuant to §§ 284.123(e) and 154.203 of the Commission's regulations. Keystone states that it submits its revised operating statement for storage and hub services in interstate commerce provided under its limited jurisdiction blanket certificate. Keystone further states that the revised operating statement has eliminated the proposed provision to hold off-system capacity in Item 24, renumbered the subsequent items (previously labeled Items 25 and 26), and revised its Title Page and Table of Contents to reflect these changes.

Any person desiring to protest this rate filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on February 14, 2006.

Magalie R. Salas,
Secretary.

[FR Doc. E6-2029 Filed 2-13-06; 8:45 am]

BILLING CODE 6717-01-P